NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 16, 2017. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas requiring special protection. The regulations establish such a permit system to designate Antarctic Specially Protected Areas.

Application Details

Permit Application: 2018-008

1. Applicant: Jill Mikucki, Department of Microbiology, University of Tennessee, Knoxville, TN

Activity for Which Permit Is Requested: Enter Antarctic Specially Protected Area (ASPA). The permit applicant proposes to enter ASPA 172, Lower Taylor Glacier and Blood Falls, as well as the Don Juan Pond restricted zone, to perform non-destructive geophysical surveys and to collect surface samples of brines, salts, and sediments. The applicant would use best-practice protocols to ensure the protection of the values of the areas and would use sterile sampling techniques. The applicant also plans to fly over the areas with using helicopter-borne electromagnetic survey technology to map resistivity of these hydrological regions.

Location: ASPA 172, Lower Taylor Glacier and Blood Falls, McMurdo Dry Valleys, Victoria Land; ASMA 2, McMurdo Dry Valleys, Southern Victoria Land; Don Juan Pond.

Dates: October 1, 2017-February 28, 2019.

Permit Application: 2018-010

2. Applicant: David J. Smith, NASA Ames Research Center, M/S SCR-261-3, Mofffett Field, CA 94035

Activity for Which Permit Is Requested: Introduce Non-Indigenous Species Into Antarctica. The permit applicant proposes to transport a containment device pre-loaded with dormant microbiological samples to Antarctica to be launched into the Earth's stratosphere as part of NASA's Long Duration Balloon program. The Exposing Microorganisms in the Stratosphere (E-MIST) payload contains five microbial strains: Bacillus pumilis SAFR032 (wild type), Bacillus pumilis SAFR032 (ISS flown), Acinetobacter pitti, Paenibacillus xerothermodurans, and Saccharomyces cerevisiae. The strains are all glued on in stasis; none are actively growing or capable of dispersing. All the microbes inside the payload are in triple containment and will remain attached to the substrate before, during and after the balloon flight. The E-MIST payload itself will be attached to the balloon gondola prior to the launch of the balloon, will be recovered along with the main balloon payload, and will be returned to the USA and the home institution.

Location: Ross Ice Shelf, Long Duration Balloon program launch and recovery sites, Antarctica.

Dates: October 1, 2017-March 31, 2020.

Permit Application: 2018-011

3. Applicant: Kenneth Sims, Department of Geology and Geophysics, Dept 3006, 1000 E. University Ave, University of Wyoming, Laramie, WY 82071-2000

Activity for Which Permit Is Requested: Enter Antarctic Specially Protected Area (ASPA). The permit applicant proposes to enter ASPA 124, Cape Crozier, to collect volcanic rock and tephra samples. The applicant would travel on foot within the ASPA to at least three sampling locations. Samples would be collected using a rock hammer and hand trowels.

Location: ASPA 124, Cape Crozier, Ross Island.

Dates: November 1-December 15, 2017.

Nadene G. Kennedy,
Polar Coordination Specialist, Office of Polar Programs.

[FR Doc. 2017-19504 Filed 9-13-17; 8:45 am]

BILLING CODE 7555-01-P